DEPARTMENT OF TRANSPORTATION

Surface Transportation Board

[STB Finance Docket No. 34622]

The Burlington Northern and Santa Fe Railway Company—Trackage Rights Exemption—Union Pacific Railroad Company

Union Pacific Railroad Company (UP), pursuant to a written trackage rights agreement entered into between UP and The Burlington Northern and Santa Fe Railway Company (BNSF), has agreed to grant overhead reciprocal trackage rights to BNSF over UP's rail line between UP's milepost 609.6 at a station known as Tower 60 (North Fort Worth) and UP's milepost 612.4 at a station known as Dalwor Junction, including a station known as Purina Junction (milepost 611.9), and continuing on to a station known as North Tower 55 (milepost 612.9) on UP's Duncan Subdivision and between BNSF's milepost 2.52 and BNSF's milepost 0.86 adjacent to and connecting to BNSF owned Tail Track on BNSF's Fort Worth Subdivision and between UP's milepost F250.9 at a station known as Tower 55 and UP's milepost F250.8 at a station known as Tower 55 (connecting with BNSF's Cleburne Subdivision) on UP's Fort Worth Subdivision, a total distance of approximately 5.0 miles. BNSF will operate its own trains with its own crews over the UP line under the trackage rights.

BNSF indicates that it expected to consummate the transaction on December 1, 2004.

The purpose of the overhead trackage rights is to facilitate directional running in the Fort Worth, TX area and to enhance the efficiency of UP and BNSF operations through Fort Worth.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34622, must be filed with the Surface Transportation Board, 1925 K Street, NW., Washington, DC 20423-0001. In addition, a copy of each pleading must be served on Sarah W. Bailiff, The Burlington Northern and Santa Fe Railway Company, P.O. Box 961039, Fort Worth, TX 76161-0039.

Board decisions and notices are available on our Web site at http://www.stb.dot.gov.

Decided: December 7, 2004.
By the Board, David M. Konschnik, Director, Office of Proceedings.
Vernon A. Williams,
Secretary.

[FR Doc. 04-27340 Filed 12-13-04; 8:45 am]

BILLING CODE 4915-01-P